SECURITIES AND EXCHANGE COMMISSION

[OMB Control No. 3235-0628, SEC File No. 270-564]

Rule 17g-2 30 Day Notice 2020—Submission for OMB Review; Comment Request

Extension:

Rule 17g-2

Notice is hereby given that pursuant to the Paperwork Reduction Act of 1995 (44 U.S.C. 3501 et seq.), the Securities and Exchange Commission (“Commission”) has submitted to the Office of Management and Budget (“OMB”) a request for approval of extension of the previously approved collection of information provided for in Rule 17g-2 (17 CFR 240.17g-2) under the Securities Exchange Act of 1934 (15 U.S.C. 78a et seq.) (“Exchange Act”).

Rule 17g-2, “Records to be made and retained by nationally recognized statistical rating organizations,” implements the Commission's recordkeeping rulemaking authority under Section 17(a) of the Exchange Act.¹ The rule requires a Nationally Recognized Statistical Rating Organization (“NRSRO”) to make and retain certain records relating to its business and to retain certain other business records, if such records are made. The rule also prescribes the time periods and manner in which all these records must be retained. There are 9 credit rating agencies registered with the Commission as NRSROs under section 15E of the Exchange Act, which have already established the record keeping policies and procedures required by Rule 17g-2. Based on staff experience, NRSROs are estimated to spend a total industry-wide burden of 2,151 annual hours to make and retain the appropriate records.

¹ 15 U.S.C 78q.

An agency may not conduct or sponsor a collection of information unless it displays a currently valid OMB control number. No person shall be subject to any penalty for failing to comply with a collection of information subject to the PRA that does not display a valid OMB control number.

The public may view background documentation for this information collection at the following website: <www.reginfo.gov>. Find this particular information collection by selecting “Currently under 30-day Review—Open for Public Comments” or by using the search function. Written comments and recommendations for the proposed information collection should be sent within 30 days of publication of this notice to (i) <www.reginfo.gov/public/do/PRAMain> and (ii) David Bottom, Director/Chief Information Officer, Securities and Exchange Commission, c/o Cynthia Roscoe, 100 F Street NE, Washington, DC 20549, or by sending an email to: PRA_Mailbox@sec.gov.

Upon Written Request, Copies Available From: Securities and Exchange Commission, Office of FOIA Services, 100 F Street NE, Washington, DC 20549-2736.

Dated: September 22, 2020.
J. Matthew DeLesDenier,
Assistant Secretary.

[FR Doc. 2020-21252 Filed 9-24-20; 8:45 am]

BILLING CODE 8011-01-P